NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. This is the required notice of a requested permit modification and permit issued.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

Description of Permit Modification Requested: The Foundation issued a permit (ACA 2017-018) to Leidos Innovations Group on October 30, 2016. The issued permit allows the applicant to enter Antarctic Specially Protected Area (ASPA) 122 Arrival Heights, Hut Point Peninsula, Ross Island. Agents are permitted to enter and transit the ASPA when necessary to support the research and logistics operations of the United States Antarctic Program.

Now the applicant proposes a modification to his permit to extend the expiration date of the permit until January 31, 2023. This modification also includes an update to the list of agents permitted entry under the permit.

The Environmental Officer has reviewed the modification request and has determined that the amendment is not a material change to the permit, and it will have a less than a minor or transitory impact.

Erika N. Davis,
Program Specialist, Office of Polar Programs.

[FR Doc. 2021-17938 Filed 8-20-21; 8:45 am]

BILLING CODE 7555-01-P